DEPARTMENT OF JUSTICE

Notice of Lodging of Proposed Stipulation Under the Clean Air Act

On October 8, 2024, the Department of Justice lodged a proposed Stipulation Regarding the Allowance of a General Unsecured Claim of the United States Environmental Protection Agency (“Stipulation”) with the United States Bankruptcy Court for the District of Delaware in In re PES Administrative Services, LLC, Case No. 19-11629 (LSS).

The proposed Stipulation resolves proofs of claim filed by the United States, on behalf of the Environmental Protection Agency, against Debtor Philadelphia Energy Solutions Refining and Marketing LLC (“PESRM”) and against a related entity, Debtor North Yard Logistics, L.P. (“North Yard”), seeking payment of a civil penalty pursuant to Section 113(e) of the Clean Air Act. As to PESRM, for alleged violations of Section 112(r) of the Clean Air Act in connection with a June 2019 fire and explosion at PESRM's former refinery complex located in Philadelphia, Pennsylvania. As to North Yard, for alleged violations of Section 112(r) of the Clean Air Act in connection with a liquified petroleum gas tank farm at the former refinery complex. The proposed Stipulation provides EPA with an allowed claim against PESRM in the amount of $4,200,000 and against North Yard in the amount of $26,724.

The publication of this notice opens a period for public comment on the proposed Stipulation. Comments should be addressed to the Assistant Attorney General, Environment and Natural Resources Division, and should refer to In re PES Administrative Services, LLC, D.J. Ref. No. 90-5-2-1-10993/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the proposed Stipulation may be examined and downloaded at this Justice Department website: http://www.justice.gov/enrd/consent-decrees. If you require assistance accessing the proposed Stipulation, you may request assistance by email or by mail to the addresses provided above for submitting comments.

Ruben Gomez,
Assistant Section Chief, Environmental Enforcement Section, Environment and Natural Resources Division.

[FR Doc. 2024-23924 Filed 10-16-24; 8:45 am]

BILLING CODE 4410-15-P